DEPARTMENT OF COMMERCE

National Oceanic and Atmospheric Administration

[XRIN: 0648-XB44]

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council will hold a meeting of its Information and Education Advisory Panel, in North Charleston, SC.

DATES: The meeting will take place August 29-30, 2007. See SUPPLEMENTARY INFORMATION for specific dates and times.

ADDRESSES: The meeting will be held at the Hilton Garden Inn Charleston Airport, 5265 International Boulevard, North Charleston, SC; telephone: (843) 308-9331 or toll free (800) 445-8667.

Council address: South Atlantic Fishery Management Council, 4055 Faber Place Drive, Suite 201, North Charleston, SC 29405.

FOR FURTHER INFORMATION CONTACT: Kim Iverson, Public Information Officer; telephone: (843) 571-4366 or toll free (866) SAFMC-10; fax: (843) 769-4520; email: kim.iverson@safmc.net.

SUPPLEMENTARY INFORMATION: Members of the Information and Education Advisory Panel will meet from 1:30 p.m. to 5 p.m. on August 29, 2007, and from 8:30 a.m. to 5 p.m. on August 30, 2007.

Agenda items for the meeting include, but are not limited to: (1) Review and update of current outreach efforts used by the South Atlantic Fishery Management Council, including web site, news releases, quarterly newsletters and other publications; (2) discussion and recommendations for outreach efforts, including partnerships, for deepwater marine protected areas proposed for the South Atlantic region; and (3) review and provide recommendations for NOAA Fisheries' FishWatch Seafood Consumer Education Program.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for auxiliary aids should be directed to the Council office (see ADDRESSES) 3 days prior to the meeting.

Note: The times and sequence specified in this agenda are subject to change.

Dated: July 11, 2007.
Tracey L. Thompson,
Acting Director, Office of Sustainable Fisheries, National Marine Fisheries Service.

[FR Doc. E7-13733 Filed 7-16-07; 8:45 am]

BILLING CODE 3510-22-S